DEPARTMENT OF THE INTERIOR

National Park Service

National Register of Historic Places; Notification of Pending Nominations and Related Actions

Nominations for the following properties being considered for listing or related actions in the National Register were received by the National Park Service before September 3, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by October 17, 2005.

John W. Roberts,
Acting Chief, National Register/National Historic Landmarks Program.

COLORADO

Morgan County

German Evangelical Immanuel Congregational Church, 209 Everett St., Brush, 05001161

MISSOURI

Shannon County

Alton Club, Gravel road, 1.5 mi. W of MO 19 and 12 Mi. N of Eminence, Eminence, 05001162

St. Louis Independent City

Hamilton Place Historic District, 5900-6000 blks of Enright, Cates, and Clemens, St. Louis (Independent City), 05001164

Measuregraph Company Building, 4245 Forest Park Blvd., St. Louis (Independent City), 05001163

OKLAHOMA

Cherokee County

Logan, Leonard M., House, 531 Summit, Tahlequah, 05001165

TEXAS

Travis County

West Line Historic District, Roughly bounded by Baylor St., W. Fifth and Sixth Sts., MoPac Expressway, Austin, 05001166

[FR Doc. 05-19525 Filed 9-29-05; 8:45 am]

BILLING CODE 4312-51-P